DEPARTMENT OF AGRICULTURE

Forest Service

Fanshaw Project Environmental Impact Statement

AGENCY: Forest Service, USDA.

ACTION: Notice to rescind notice of intent to prepare an Environmental Impact Statement.

SUMMARY: The Department of Agriculture, Forest Service, is issuing this notice to advise the public that we are rescinding the notice of intent (NOI) to prepare an environmental impact statement (EIS) for the Fanshaw Project.

FOR FURTHER INFORMATION CONTACT: Tiffany Benna, Team Leader at Petersburg Ranger District, P.O. Box 1328, Petersburg, AK 99833, phone (907) 772-3871.

SUPPLEMENTARY INFORMATION: The Forest Service is rescinding the NOI published in the Federal Register on May 4, 2000 to prepare an EIS for the Fanshaw Project. The NOI is being rescinded because the project was based on the 1999 Tongass Land Management Plan Revision Record of Decision.

Dated: August 24, 2005.
Forrest Cole,
Tongass Forest Supervisor.

[FR Doc. 05-18007 Filed 9-9-05; 8:45 am]

BILLING CODE 3410-11-M